DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated at Arlington, Virginia this 15th day of September 2004.
Marvin W. Nichols, Jr.,
Director, Office of Standards, Regulations, and Variances.

Affirmative Decisions on Petitions for Modification

Docket No.: M-2002-028-C.

FR Notice: 67 FR 19284.

Petitioner: Consolidation Coal Company.

Regulation Affected: 30 CFR 75.364(b)(2).

Summary of Findings: Petitioner's proposal is to amend the Proposed Decision and Order (PDO) for its previously granted petition for modification, docket number M-1993-275-C, as it relates to air courses ventilating the No. 3 North seals and the No. 2½ North seals at the Loveridge No. 22 Mine. The petitioner's request is to amend paragraph 4 of the previous PDO to permit a certified person to conduct weekly examinations of each of the eight (8) monitoring stations to evaluate the quality of methane and oxygen content (measured by a hand-held instrument) and quantity of air entering and exiting the monitoring station, and to determine air course leakage. This is considered an acceptable alternative method for the Loveridge No. 22 Mine. MSHA grants the petition for modification for continuous monitoring using intrinsically safe sensors installed as part of the mine's Atmospheric Monitoring System (AMS) and weekly evaluation of air entering and leaving the intake air courses ventilating No. 3 North seals and No. 2½ North seals for the Loveridge No. 22 Mine with conditions.

Docket No.: M-2002-043-C.

FR Notice: 67 FR 37443.

Petitioner: Lone Mountain Processing, Incorporated.

Regulation Affected: 30 CFR 75.901(a).

Summary of Findings: Petitioner's proposal is to use a 480-volt, three-phase, 300KW/375VA diesel powered generator (DPG) set to supply power to a three-phase wye connected 300 KVA auto transformer and three-phase 480-volt and 995-volt power circuits. This is considered an acceptable alternative method for the Darby Fork No. 1 Mine. MSHA grants the petition for modification for the LIMA MAC, 480-volt, Model No. 68MDL10094, 300KW diesel powered generator (DPG) set, supplying power to a 300 KVA autotransformer to develop 995-volt power circuits for the Darby Fork No. 1 Mine with conditions.

Docket No.: M-2002-044-C.

FR Notice: 67 FR 37443.

Petitioner: Lone Mountain Processing, Incorporated.

Regulation Affected: 30 CFR 75.901(a).

Summary of Findings: Petitioner's proposal is to use a 480-volt, three-phase, 300KW/375VA diesel powered generator (DPG) set to supply power to a three-phase wye connected 300 KVA auto transformer and three-phase 480-volt and 995-volt power circuits. This is considered an acceptable alternative method for the Huff Creek Mine No. 1. MSHA grants the petition for modification for the LIMA MAC, 480-volt, Model No. 68MDL10094, 300KW diesel powered generator (DPG) set, supplying power to a 300 KVA autotransformer to develop 995-volt power circuits for the Huff Creek Mine No. 1 with conditions.

Docket No.: M-2002-073-C.

FR Notice: 67 FR 59318.

Petitioner: Mountain Coal Company, L.L.C.

Regulation Affected: 30 CFR 75.352.

Summary of Findings: Petitioner's proposal is to temporarily use a portion of the #4 Belt Entry as a return air course and use specific stipulations listed in the petition for modification to achieve an equivalent level of safety when implementing its proposed alternative method. These stipulations will remain in effect only until a return air course can be established between the E-seam and the shaft that connects the B-seam to the F-seam. This is considered an acceptable alternative method for the West Elk Mine. MSHA grants the petition for modification for use of belt haulage in a return air course, only between the F and B coal seams along the No. 4 belt in the No. 1 Rock Slope entry, during initial development of the E-seam, between the rock slopes and the inner-seam return air shaft, conditioned upon compliance with the terms and conditions listed in the Proposed Decision and Order for the West Elk Mine.

Docket No.: M-2003-027-C.

FR Notice: 68 FR 23501.

Petitioner: Baylor Mining, Inc.

Regulation Affected: 30 CFR 75.364(b)(2).

Summary of Findings: Petitioner's proposal is to have a certified person check the quantity and quality of air at four monitoring stations (identified as EP No. 3, EP No. 4, EP No. 5, and EP No. 6) intake and return air courses on a weekly basis in the area approximately 700 feet of the return air course in the 1st Left section of the Beckley Crystal Mine due to extremely hazardous roof conditions and several roof falls. The petitioner asserts that traveling the affected areas would be unsafe. The petitioner filed this petition for modification seeking to modify the application of 30 CFR 75.364(a)(1). MSHA determined that the petitioned area is not a worked out area and is best classified as a designated return air course. Therefore, the petition is being treated as a request to modify the application of 30 CFR 75.364(b)(2). This is considered an acceptable alternative method for the Beckley Crystal Mine. MSHA grants the petition for modification for the examination of approximately 700 feet of unsafe-to-travel return air course in the 1st Left Section from Spad No. 1839 to one block inby Spad No. 1792 for the Beckley Crystal Mine with conditions.

Docket No.: M-2003-038-C.

FR Notice: 68 FR 37176.

Petitioner: Anker West Virginia Mining Company, Inc.

Regulation Affected: 30 CFR 75.364(b)(1).

Summary of Findings: Petitioner's proposal is to establish evaluation points to monitor the quality, quantity, and direction of air flow through the A Mains intake air course starting at Spad 428 and ending at Spad 388, a distance of 3,100 feet. The evaluation points will be established at the inby end of the intake air course near Spad 388 to test for methane accumulation oxygen deficiency, quantity of air and for the proper direction of air flow; the evaluation points will be examined on a weekly basis; test results will be recorded in a book provided on the surface; and preshift examination of the belt side of the intake stopping line separating the belt from the intake air course will be made every 8 hours and any hazardous conditions found will be recorded in a book provided on the surface. This is considered an acceptable alternative method for the Spruce Fork Mine No. 1. MSHA grants the petition for modification for evaluation of the unsafe-for-examination intake air course segment (approximately 3,100 feet) known as the A Mains Air Course Area for the Spruce Fork Mine No. 1 with conditions.

Docket No.: M-2003-041-C.

FR Notice: 68 FR 37177.

Petitioner: R & D Coal Company, Inc.

Regulation Affected: 30 CFR 75.311(b)(2) and (b)(3).

Summary of Findings: Petitioner's request is that electrical circuits entering the underground mine remain energized to the mine's de-watering pumps while the mine ventilation fan is intentionally stopped during idle shifts while no miners are underground. This is considered an acceptable alternative method for the Buck Mountain Slope Mine. MSHA grants the petition for modification to permit the electrical circuits entering the underground mine to remain energized to the mine's de-watering pumps while the mine ventilation fan is intentionally stopped during idle shifts while no miners are underground for the Buck Mountain Slope Mine with conditions.

Docket No.: M-2003-042-C.

FR Notice: 68 FR 37177.

Petitioner: Orchard Coal Company, Inc.

Regulation Affected: 30 CFR 75.311(b)(2) and (b)(3).

Summary of Findings: Petitioner's request is that electrical circuits entering the underground mine remain energized to the mine's de-watering pumps while the mine ventilation fan is intentionally stopped during idle shifts while no miners are underground. This is considered an acceptable alternative method for the Orchard Slope Mine. MSHA grants the petition for modification to permit the electrical circuits entering the underground mine to remain energized to the mine's de-watering pumps while the mine ventilation fan is intentionally stopped during idle shifts while no miners are underground for the Orchard Slope Mine with conditions.

Docket No.: M-2003-053-C.

FR Notice: 68 FR 47367.

Petitioner: Jim Walter Resources, Inc.

Regulation Affected: 30 CFR 75.507.

Summary of Findings: Petitioner's proposal is to use deep well submersible pumps driven by sealed areas in the underground mines. This is considered an acceptable alternative method for the No. 4, No. 5, and No. 7 Mines. MSHA grants the petition for modification for the use of 4,160-volt, three-phase, and alternating-current submersible pump(s) installed in boreholes in the No. 4, No. 5, and No. 7 Mines with conditions.

Docket No.: M-2003-066-C.

FR Notice: 68 FR 57933.

Petitioner: Little Eagle Coal Company, LLC.

Regulation Affected: 30 CFR 75.900.

Summary of Findings: Petitioner's proposal is to use a vacuum contactor in series with the circuit breaker to perform tripping tasks normally associated with the circuit breaker using specific procedures listed in the petition for modification. This is considered an acceptable alternative method for the Little Eagle Mine. MSHA grants the petition for modification to allow the use of contactors to provide under-voltage, grounded phase, and monitor the grounding conductors for low- and medium-voltage power circuits serving three-phase alternating current equipment located in the Little Eagle Mine with conditions.

Docket No.: M-2003-068-C.

FR Notice: 68 FR 61701.

Petitioner: Black Beauty Coal Company.

Regulation Affected: 30 CFR 75.1700.

Summary of Findings: Petitioner's proposal is to mine through oil and gas wells in lieu of plugging the wells and to establish and maintain a barrier around various abandoned wells. This is considered an acceptable alternative method for the Francisco Mine, Underground Pit. MSHA grants the petition for modification for mining through or near (whenever the safety barrier diameter is reduced to a distance less than the District Manager would approve pursuant to Section 75.1700) plugged oil or gas wells penetrating the Indiana V coal seam and other mineable coal seams for the Francisco Mine, Underground Pit with conditions.

Docket No.: M-2004-070-C.

FR Notice: 68 FR 61701.

Petitioner: Consolidation Coal Company.

Regulation Affected: 30 CFR 75.364(b)(2).

Summary of Findings: Petitioner's proposal is to establish check points to monitor the area of the return air course from Main North 104 block to 3 West 12 block due to deteriorating roof conditions which has caused the affected area to be unsafe for travel in its entirety to conduct weekly examinations. The petitioner proposes to establish check points 3W-1 and 3W-2 to measure air quality and quantity at the inlet to the affected air course, and check point 3W-3 to measure air quality and quantity at the outlet from the affected air course; maintain the check points in safe condition at all times; and have a certified person test for methane and the quantity of air on a weekly basis and record the results of the test in book with their initials, date, and time and kept on the surface for inspection by interested person(s). This is considered an acceptable alternative method for the Robinson Run Mine. MSHA grants the petition for modification for the examination of approximately 2,200 feet of unsafe-to-travel return air course from Main North 104 Block to 3 West 12 Block for the Robinson Run Mine with conditions.

Docket No.: M-2003-072-C.

FR Notice: 68 FR 61701.

Petitioner: Bowie Resources, Limited.

Regulation Affected: 30 CFR 75.901(a).

Summary of Findings: Petitioner's proposal is to use an alternate method of compliance for the grounding of a diesel generator. The petitioner proposes to use a 460KW diesel powered generator to move electrically powered mining equipment in, out, and around the mine only, and to perform work in areas outby section loading points where permissible equipment is not required. This is considered an acceptable alternative method for the Bowie No. 3 Mine. MSHA grants the petition for modification for the Bowie No. 3 Mine with conditions.

Docket No.: M-2003-075-C.

FR Notice: 68 FR 61702.

Petitioner: Bowie Resources Limited.

Regulation Affected: 30 CFR 75.1726(a).

Summary of Findings: Petitioner's proposal is to use modified diesel powered L.H.D.’s or “scoops” as elevated mobile work platforms at the Bowie No. 3 Mine using specific procedures listed in the petition for modification. This is considered an acceptable alternative method for the Bowie No. 3 Mine. MSHA grants the petition for modification for the Bowie No. 3 Mine with conditions.

Docket No.: M-2003-078-C.

FR Notice: 68 FR 64129.

Petitioner: Consol Pennsylvania Coal Company.

Regulation Affected: 30 CFR 75.507.

Summary of Findings: Petitioner's proposal is to install non-permissible submersible pumps to be installed in bleeder and return entries and sealed areas of the Enlow Fork Mine. On December 2, 2003, the petitioner filed an amended petition for modification requesting that the Bailey Mine also apply to this petition (69 FR 42070, July 13, 2004). This is considered an acceptable alternative method for the Enlow Fork and Bailey Mines. MSHA grants the petition for modification for the use of low- and medium-volt, three phase, alternating current, non-permissible submersible pump(s) installed in bleeder and return entries and sealed areas for the Enlow Fork and Bailey Mines with conditions.

Docket No.: M-2003-080-C.

FR Notice: 68 FR 64129.

Petitioner: KenAmerican Resources, Inc.

Regulation Affected: 30 CFR 75.364(b)(2).

Summary of Findings: Petitioner's proposal is to establish a Measuring Point Location in the Main East return at x-cut #10 (MPL 1B) and the ventilation entries at x-cut #7 (MPL C & D), and in the Main North return at x-cut #1, due to deteriorating roof conditions which causes unsafe conditions for traveling the entire affected area to conduct weekly examinations. This is considered an acceptable alternative method for the Paradise #9 Mine. MSHA grants the petition for modification for the unsafe-to-travel segment (approximately 1,300 feet) of the Main North and Main East return air course for the Paradise #9 Mine with conditions.

Docket No.: M-2003-081-C.

FR Notice: 68 FR 64129.

Petitioner: Bowie Resources Limited.

Regulation Affected: 30 CFR 75.1002.

Summary of Findings: Petitioner's proposal is to use high-voltage continuous miners inby the last crosscut and within 150 feet of the pillar workings. This is considered an acceptable alternative method for the Bowie No. 3 Mine. MSHA grants the petition for modification for the use of the 2,400-volt high-voltage continuous miner(s) at the Bowie No. 3 Mine with conditions, Proposed Decision and Order (PDO) dated May 3, 2004. On April 26, 2004, the petitioner requested application of relief to give effect to the PDO, because to delay the effective date of the PDO for the normal 30-day period would cause an unnecessary disruption of mining activities and significant economic loss. On May 3, 2004, MSHA grants application for relief to give effect to May 3, 2004, to allow the high-voltage continuous miner, previously granted modification under Docket Number M-2003-023-C, to be used at the Bowie No. 3 Mine under identical granting terms and conditions.

Docket No.: M-2003-083-C.

FR Notice: 68 FR 67217.

Petitioner: Genwal Resources, Inc.

Regulation Affected: 30 CFR 75.500(b).

Summary of Findings: Petitioner's proposal is to use the following non-permissible low-voltage or battery-powered electronic testing and diagnostic equipment inby the last open crosscut: Lap top computers, oscilloscopes, vibration analysis machines, cable fault detectors, point temperature probes, infrared temperature devices and recorders, pressure and flow measurement devices, signal analyzer devices, ultrasonic thickness gauges, electronic component testers, and electronic tachometers, and battery operated drills. The petitioner states that all other test and diagnostic equipment may be used if approved in advance by MSHA's District Office. This is considered an acceptable alternative method for the South Crandall Canyon Mine. MSHA grants the petition for modification for the use of low-voltage or battery-powered non-permissible electronic testing and diagnostic equipment in or inby the last open crosscut or within 150 feet of pillar workings or longwall face, under controlled conditions, for testing and diagnosing the mining equipment at the South Crandall Canyon Mine with conditions.

Docket No.: M-2003-085-C.

FR Notice: 68 FR 67218.

Petitioner: Genwal Resources, Inc.

Regulation Affected: 30 CFR 75.1002-1(a) now 75.1002(a).

Summary of Findings: Petitioner's proposal is to use the following non-permissible low-voltage or battery-powered electronic testing and diagnostic equipment inby the last open crosscut: Lap top computers, oscilloscopes, vibration analysis machines, cable fault detectors, point temperature probes, infrared temperature devices and recorders, pressure and flow measurement devices, signal analyzer devices, ultrasonic thickness gauges, electronic component testers, and electronic tachometers, and battery operated drills. The petitioner states that all other test and diagnostic equipment may be used if approved in advance by MSHA's District Office. This is considered an acceptable alternative method for the South Crandall Canyon Mine. MSHA grants the petition for modification for the use of low-voltage or battery-powered non-permissible electronic testing and diagnostic equipment in or inby the last open crosscut or within 150 feet of pillar workings or longwall face, under controlled conditions, for testing and diagnosing the mining equipment at the South Crandall Canyon Mine with conditions.

Docket No.: M-2003-087-C.

FR Notice: 68 FR 67218.

Petitioner: White County Coal, LLC.

Regulation Affected: 30 CFR 75.1700.

Summary of Findings: Petitioner's proposal is to plug oil and gas wells using the proven techniques described in this petition for modification and then mine in close proximity or through such plugged wells using the specific procedures listed in the petition. This is considered an acceptable alternative method for the Pattiki II Mine. MSHA grants the petition for modification for mining through or near (whenever the safety barrier diameter is reduced to a distance less than the District manager would approve pursuant to Section 75.1700) plugged or gas wells penetrating the Illinois No. 6 coal seam and other mineable coal seams using continuous miners, conventional mining, or longwall mining methods for the Pattiki II Mine with conditions.

Docket No.: M-2003-089-C.

FR Notice: 68 FR 67218.

Petitioner: Warrior Coal, LLC.

Regulation Affected: 30 CFR 75.1700.

Summary of Findings: Petitioner's proposal is to mine through oil and gas wells in all mineable coal beds using the specific terms and conditions listed in this petition for modification. This is considered an acceptable alternative method for the Cardinal Mine. MSHA grants the petition for modification for mining through or near (whenever the safety barrier diameter is reduced to a distance less than the District Manager would approve pursuant to Section 75.1700) plugged oil or gas wells penetrating the Kentucky Numbers 9 and 11 coal seams and other mineable coal seams using continuous miners, conventional mining, or longwall mining methods for the Cardinal Mine with conditions.

Docket No.: M-2003-098-C.

FR Notice: 69 FR 3948.

Petitioner: Little Buck Coal Company.

Regulation Affected: 30 CFR 49.2(b).

Summary of Findings: Petitioner's proposal is to reduce the two mine rescue teams with five members and one alternate each, to two mine rescue teams with three members and one alternate for either team. This is considered an acceptable alternative method for the No. 2 Slope Mine. MSHA grants the petition for modification for the No. 2 Slope Mine with conditions.

Docket No.: M-2004-002-C.

FR Notice: 69 FR 7796.

Petitioner: CONSOL of Kentucky, Inc.

Regulation Affected: 30 CFR 75.1101-8.

Summary of Findings: Petitioner's proposal is to use a single line of automatic sprinklers for its fire protection system on main and secondary belt conveyors in the Jones Fork E-3 Mine. The petitioner proposes to: (i) Use a single overhead pipe system with ½-inch orifice automatic sprinklers located on 10-foot centers, to cover 50 feet of fire-resistant belt or 150 feet of non-fire resistant belt, with actuation temperatures between 200 and 230 degrees Fahrenheit and the water pressure equal to or greater than 10 psi; (ii) locate automatic sprinklers not more than 10 feet apart so that the discharge of water will extend over the belt drive, belt take-up, electrical control, and gear reducing unit; (iii) conduct a test during installation of each new system and during any subsequent repair or replacement of any critical part thereof; (iv) conduct a functional test to insure proper operation during subsequent repair or replacement of any critical part thereof; and (v) conduct an annual functional test of each sprinkler system. This is considered an acceptable alternative method for the Jones Fork E-3 Mine. MSHA grants the petition for modification for a single overhead pipe sprinkler system in the Jones Fork E-3 Mine with conditions.

Docket No.: M-2004-003-C.

FR Notice: 69 FR 7796.

Petitioner: Paramount Coal Company Virginia, LLC.

Regulation Affected: 30 CFR 77.214(a).

Summary of Findings: Petitioner's proposal is to place scalp rock in an area containing abandoned mine openings. The petitioner proposes to use the existing abandoned VICC #3 mine pit, located on Russell Creek off State Route 655 in Virginia City, Wise County, Virginia, for disposing scalp rock from the VICC #3 and VICC #10 Mines, and reclaim the highwall above the abandoned VICC #8 Portals. Disposal of the scalp rock will necessitate the sealing of the three mine openings. This is considered an acceptable alternative method for the VICC No. 3 and VICC No. 10 Mines. MSHA grants the petition for modification for the VICC No. 3 and No. 10 Mines with conditions.

Docket No.: M-2004-007-C.

FR Notice: 69 FR 11894.

Petitioner: Mingo Logan Coal Company.

Regulation Affected: 30 CFR 77.214(a).

Summary of Findings: Petitioner's proposal is to use coarse coal mine refuse material from the Black Bear Preparation Plant to seal and reclaim four mine openings of the abandoned Select Mining, Inc., Mine No. 5. This is considered an acceptable alternative method for the Black Bear Preparation Plant. MSHA grants the petition for modification for the Black Bear Preparation Plant with conditions.

Docket No.: M-2004-008-C.

FR Notice: 69 FR 11894.

Petitioner: Remington, LLC.

Regulation Affected: 30 CFR 75.1002.

Summary of Findings: Petitioner's proposal is to use a high-voltage 2,400-volt Joy 14CM27 continuous miner at the Stockburg No. 2 Mine. This is considered an acceptable alternative method for the Stockburg No. 2 Mine. MSHA grants the petition for modification for the Stockburg No. 2 Mine with conditions, Proposed Decision and Order (PDO) dated May 11, 2004. On May 7, 2004, the petitioner requested application of relief to give effect to the PDO, because to delay the effective date of the PDO for the normal 30-day period would cause an unnecessary disruption of mining activities and significant economic loss. On May 11, 2004, MSHA grants application for relief to give effect to May 11, 2004, to allow the high-voltage continuous miner, previously granted modification under Docket Number M-1998-001-C, to be used at the Stockburg No. 2 Mine under current and nearly identical granting terms and conditions.

Docket No.: M-2004-009-C.

FR Notice: 69 FR 13593.

Petitioner: Coteau Properties Company.

Regulation Affected: 30 CFR 77.803.

Summary of Findings: Petitioner's proposal is to use an alternative method of compliance when raising or lowering the boom/mast during construction/maintenance, most likely during disassembly or major maintenance. The petitioner proposes to use this procedure only to raise or lower the boom/mast on draglines using the on-board motor generator sets. This is considered an acceptable alternative method for the Freedom Mine. MSHA grants the petition for modification for dragline boom or mast raising, lowering, assembling, disassembling or during major repairs which require raising or lowering the dragline boom or mast by the on-board generators for the Freedom Mine with conditions.

Docket No.: M-2004-010-C.

FR Notice: 69 FR 13593.

Petitioner: TXU Mining Company LP.

Regulation Affected: 30 CFR 77.803.

Summary of Findings: Petitioner's proposal is to use an alternative method of compliance when raising or lowering the boom/mast during construction/maintenance, most likely during disassembly or major maintenance. The petitioner proposes to use this procedure only to raise or lower the boom/mast on draglines using the on-board motor generator sets. This is considered an acceptable alternative method for the Big Brown Strip Mine, Winfield North Strip Mine, Winfield South Strip Mine, Beckville Strip Mine, Tatum Strip Mine, and Oak Hill Strip Mine. MSHA grants the petition for modification for dragline boom or mast raising, lowering, assembling, disassembling or during major repairs which require raising or lowering the dragline boom or mast by the on-board generators for the Big Brown Strip Mine, Winfield North Strip Mine, Winfield South Strip Mine, Beckville Strip Mine, Tatum Strip Mine, and Oak Hill Strip Mine with conditions.

Docket No.: M-2004-012-C.

FR Notice: 69 FR 18986.

Petitioner: The Sabine Mining Company.

Regulation Affected: 30 CFR 77.803.

Summary of Findings: Petitioner's proposal is to use an alternative method of compliance when raising or lowering the boom/mast during necessary repairs. The machine will not be in operation during the procedure for raising and lowering the boom for construction/maintenance. This modification will not replace any other mechanical precautions or the requirements of 30 CFR 77.405(b) that are necessary to safely secure booms/masts during construction or maintenance procedures. This is considered an acceptable alternative method for the South Hallsville No. 1 Mine. MSHA grants the petition for modification for dragline boom or mast raising, lowering, assembling, disassembling or during major repairs which require raising or lowering the dragline boom or mast by the on-board generators for the South Hallsville No. 1 Mine.

Docket No.: M-2004-013-C.

FR Notice: 69 FR 18986.

Petitioner: CONSOL of Kentucky, Inc.

Regulation Affected: 30 CFR 75.1101-8.

Summary of Findings: Petitioner's proposal is to use a single line of automatic sprinklers for its fire protection system on main and secondary belt conveyors in the Raccoon E-1 Mine. The petitioner proposes to use a single overhead pipe system with ½-inch orifice automatic sprinklers located on 10-foot centers, located to cover 50 feet of fire-resistant belt or 150 feet of non-fire resistant belt, with actuation temperatures between 200 and 230 degrees Fahrenheit, and with water pressure equal to or greater than 10 psi. The petitioner also proposes to have the automatic sprinklers located not more than 10 feet apart so that the discharge of water will extend over the belt drive, belt take-up, electrical control, and gear reducing unit; conduct a test to insure proper operation during the installation of each new system and during any subsequent repair or replacement of any critical part of the sprinkler system; conduct a functional test to insure proper operation during subsequent repair or replacement of any critical part of the sprinkler system; and conduct a functional test on an annual basis. This is considered an acceptable alternative method for the Raccoon E-1 Mine. MSHA grants the petition for modification for a single overhead pipe sprinkler system for the Raccoon E-1 Mine with conditions.

Docket No.: M-2003-002-M.

FR Notice: 68 FR 55293.

Petitioner: Phelps Dodge Morenci Incorporated.

Regulation Affected: 30 CFR 56.6309.

Summary of Findings: Petitioner's proposal is to use recycled waste oil to prepare ammonium nitrate-fuel oil at the Morenci Mine using the specific procedures listed in the petition for modification. This is considered an acceptable alternative method for the Morenci Mine. MSHA grants the petition for modification for the Morenci Mine with conditions.

[FR Doc. 04-21231 Filed 9-21-04; 8:45 am]

BILLING CODE 4510-43-P